DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of May 17, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Ford County, Illinois and Incorporated Areas Docket No.: FEMA-B-2105
City of Gibson City | City Hall, 101 East 8th Street, Gibson City, IL 60936.
Unincorporated Areas of Ford County | Ford County Courthouse, 200 West State Street, Paxton, IL 60957.
Osage County, Kansas and Incorporated Areas Docket No.: FEMA-B-2068
City of Burlingame | City Hall, 101 East Santa Fe Avenue, Burlingame, KS 66413.
City of Carbondale | City Offices, 234 Main Street, Carbondale, KS 66414.
City of Lyndon | City Hall, 730 Topeka Avenue, Lyndon, KS 66451.
City of Melvern | City Hall, 141 Southwest Main Street, Melvern, KS 66510.
City of Osage City | City Hall, 201 South 5th Street, Osage City, KS 66523.
City of Overbrook | City Hall, 401 Maple Street, Overbrook, KS 66524.
City of Quenemo | City Hall, 109 East Maple Street, Quenemo, KS 66528.
City of Scranton | Municipal Building, 120 West Boone Street, Scranton, KS 66537.
Unincorporated Areas of Osage County | Osage County Courthouse, 717 Topeka Avenue, Lyndon, KS 66451.
Wyoming County, Pennsylvania (All Jurisdictions) Docket No.: FEMA B-1921 and FEMA-B-2101
Borough of Laceyville | Municipal Building, 342 Church Street, Laceyville, PA 18623.
Borough of Meshoppen | Municipal Building, 154 Oak Street, Meshoppen, PA 18630.
Borough of Tunkhannock | Borough Office, 126 Warren Street, Tunkhannock, PA 18657.
Township of Braintrim | Braintrim Township Municipal Building, 220 Main Street, Laceyville, PA 18623.
Township of Eaton | Eaton Township Municipal Building, 1331 Hunter Highway, Tunkhannock, PA 18657.
Township of Exeter | Exeter Township Municipal Building, 2690 Sullivans Trail, Falls, PA 18615.
Township of Falls | Municipal Building, 220 Buttermilk Road, Falls, PA 18615.
Township of Mehoopany | Municipal Building, 237 Schoolhouse Road, Mehoopany, PA 18629.
Township of Meshoppen | Municipal Building, 527 Benninger Road, Meshoppen, PA 18630.
Township of Northmoreland | Northmoreland Township Municipal Building, 15 Municipal Lane, Dallas, PA 18612.
Township of Tunkhannock | Municipal Building, 113 Tunkhannock Township Drive, Tunkhannock, PA 18657.
Township of Washington | Washington Township Municipal Building, 184 Keiserville Road, Tunkhannock, PA 18657.
Township of Windham | Windham Township Municipal Building, 149 Palen Street, Mehoopany, PA 18629.
Middlesex County, Virginia and Incorporated Areas Docket No.: FEMA-B-2017
Unincorporated Areas of Middlesex County | Middlesex County Department of Planning, 865 General Puller Highway, Saluda, Virginia, 23149.
Orange County, Virginia and Incorporated Areas Docket No.: FEMA-B-2013
Town of Gordonsville | Town Office, 112 South Main Street, Gordonsville, VA 22942.
Town of Orange | Town Hall, Office of Community Development and Planning, 119 Belleview Avenue, 3rd Floor, Orange, VA 22960.
Unincorporated Areas of Orange County | Orange County Planning and Development Services Department, 128 West Main Street, Orange, VA 22960.
Westmoreland County, Virginia and Incorporated Areas Docket No.: FEMA-B-2003 and B-2101
Town of Montross | Town Hall, 15869 Kings Highway, Montross, VA 22520.
Unincorporated Areas of Westmoreland County | Westmoreland County George D. English, Sr. Memorial Building, 111 Polk Street, Montross, VA 22520.

[FR Doc. 2022-01623 Filed 1-26-22; 8:45 am]

BILLING CODE 9110-12-P